DEPARTMENT OF THE INTERIOR

National Park Service

[NPS-IMR-BITH-12033: PX.PD109246K.00.1]

General Management Plan, Draft Environmental Impact Statement, Big Thicket National Preserve, Texas

AGENCY: National Park Service, Interior.

ACTION: Notice of Availability.

SUMMARY: Pursuant to the National Environmental Policy Act of 1969, 42 U.S.C. 4332(2)(C), the National Park Service announces the availability of a Draft Environmental Impact Statement for the General Management Plan, Big Thicket National Preserve, Texas.

DATES: The National Park Service will accept comments on the Draft Environmental Impact Statement from the public for 60 days after the date the Environmental Protection Agency publishes this Notice of Availability. Public meetings on the draft will be scheduled during the comment period. Interested parties are encouraged to check the park Web site and local media for information.

ADDRESSES: Information will be available for public review and comment online at http://parkplanning.nps.gov/BITH, in the office of the Superintendent, Doug Neighbor, 6044 FM 420, Kountze, TX 77625, 409-951-6801, and at the following location: Fire Management Office, 860 CR 1040, Woodville, TX 75997.

FOR FURTHER INFORMATION CONTACT: Doug Neighbor, Superintendent, Big Thicket National Preserve, 6044 FM Road 420, Kountze, TX 77625, email address BITH_Superintendent@nps.gov; 409-951-6801.

SUPPLEMENTARY INFORMATION: The document describes four management alternatives for Big Thicket National Preserve, including a no-action alternative and the National Park Service preferred alternative. The anticipated environmental impacts of those alternatives are also analyzed. Alternative 1, the no-action alternative, would extend existing conditions and management trends into the future. This alternative serves as a basis of comparison for evaluating the action alternatives. Alternative 2, the NPS preferred alternative, would support a broad ecosystem approach for preserve management using partnerships and collaboration. This alternative recognizes the challenges associated with management of cross-boundary resource issues and the importance of encouraging partnerships to address and resolve resource issues. The National Park Service would proactively engage in regional planning and policy efforts for the benefit of resource protection, compatible visitor use, and other issues both within and outside the preserve boundaries. Initiatives that advance the long-term protection of the preserve's natural resources would receive the primary focus of management attention and funding. Appropriate visitor uses and experiences would also be improved and expanded. Preserve staff would expand and encourage new partnership agreements with outside public and private organizations. Alternative 3 would emphasize natural resource preservation and research while providing self-reliant recreational opportunities. Alternative 4 would seek to increase the importance of the preserve and the National Park Service to the people in the communities of southeast Texas and to visitors from all over the world. If you wish to comment, you may submit your comments by any one of several methods. You are encouraged to submit comments via the Internet at http://parkplanning.nps.gov/BITH. You may also mail comments to National Park Service, Denver Service Center—Erin Flanagan, P.O. Box 25287, Denver, CO 80225. Finally, you may hand-deliver comments to 6044 FM Road 420, Kountze, TX 77625. Before including your address, phone number, email address, or other personal identifying information in your comment, you should be aware that your entire comment—including your personal identifying information—may be made publicly available at any time. While you can ask us in your comment to withhold your personal identifying information from public review, we cannot guarantee that we will be able to do so.

Dated: January 15, 2013.
John Wessels,
Regional Director, Intermountain Region, National Park Service.

[FR Doc. 2013-10423 Filed 5-2-13; 8:45 am]

BILLING CODE 4312-CB-P